ENVIRONMENTAL PROTECTION AGENCY

40 CFR Part 52

[EPA-R05-OAR-2018-0625; FRL-9990-46-Region 5]

Air Plan Approval; Indiana; Volatile Organic Liquid Storage Tank Rules

AGENCY: Environmental Protection Agency (EPA).

ACTION: Proposed rule.

SUMMARY: The Environmental Protection Agency (EPA) is proposing to approve revisions to the Indiana Administrative Code (IAC) rule entitled “Volatile Organic Liquid Storage Vessels” as part of Indiana's State Implementation Plan (SIP). This rule has been revised to: allow sources to use an alternative inspection method to demonstrate compliance, address an inconsistency in the language regarding the calculation of maximum true vapor pressure (MTVP), exempt sources complying with the National Emission Standards for Hazardous Air Pollutants (NESHAPS) requirements for storage tanks equipped with floating roofs, clarify language, update references, correct certain errors, and address standard language and style changes that have occurred over time since the rule was last revised.

DATES: Comments must be received on or before April 8, 2019.

ADDRESSES: Submit your comments, identified by Docket ID No. EPA-R05-OAR-2018-0625, at http://www.regulations.gov, or via email to Aburano.Douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Kathleen D'Agostino, Environmental Engineer, Attainment Planning and Maintenance Section, Air Programs Branch (AR-18J), U.S. Environmental Protection Agency, Region 5, 77 West Jackson Boulevard, Chicago, Illinois 60604, (312) 886-1767, Dagostino.Kathleen@epa.gov.

SUPPLEMENTARY INFORMATION: Throughout this document, whenever “we,” “us,” or “our” is used, we mean EPA. This supplementary information section is arranged as follows:

I. What revisions has Indiana made to rule 326 IAC 8-9 and are they approvable?

II. What action is EPA proposing?

III. Incorporation by Reference

IV. Statutory and Executive Order Reviews

I. What revisions has Indiana made to rule 326 IAC 8-9 and are they approvable?

On May 3, 1995, the Indiana Department of Environmental Management (IDEM) adopted 326 IAC 8-9 to control emissions from volatile organic liquid (VOL) storage vessels and to satisfy Clean Air Act (CAA) requirements to adopt Volatile Organic Compound (VOC) Reasonably Available Control Technology (RACT) rules. EPA approved 326 IAC 8-9 into the Indiana SIP on January 17, 1997 (62 FR 2593).

On August 20, 2018, IDEM submitted an amended 326 IAC 8-9, requesting that EPA approve the rule amendments as a revision to the Indiana SIP. On September 28, 2018, IDEM supplemented the submittal with an email clarifying its interpretation of 326 IAC 8-9-6(i)(3). The following summarizes the substantive rule revisions and discusses whether these rule revisions are approvable as SIP revisions.

Where we note “this rule” or “the rule,” unless otherwise noted, we mean 326 IAC 8-9.

326 IAC 8-9

326 IAC 8-9-1 Applicability

Paragraphs (c), (e), and (f) were added to clarify that this rule applies to all stationary vessels that store a VOL regardless of the capacity or maximum true vapor pressure of the VOL stored. Paragraph (c) was added to clarify that stationary vessels with a capacity greater than or equal to 39,000 gallons that store a VOL with a maximum true vapor pressure less than 0.5 pound per square inch absolute (psia) are subject to the appropriate recordkeeping and reporting requirements of section 6 of this rule (326 IAC 8-9-6). Paragraph (e) was added to clarify that stationary vessels with a capacity greater than or equal to 39,000 gallons that store a VOL with a maximum true vapor pressure greater than or equal to 0.75 psia but less than 11.1 psia are subject to the corresponding standards in section 4 of this rule (326 IAC 8-9-4), the appropriate testing procedures of section 5 of this rule (326 IAC 8-9-5), and the appropriate recordkeeping and reporting requirements of section 6 of this rule. Paragraph (f) was added to clarify that stationary vessels with a capacity greater than or equal to 39,000 gallons that store a VOL with a maximum true vapor pressure greater than or equal to 11.1 psia are subject to the corresponding standards in section 4 of this rule, the appropriate testing procedures of section 5 of this rule, and the appropriate recordkeeping and reporting requirements of section 6 of this rule. These revisions are approvable because they simply clarify that this rule applies to all stationary vessels that store a VOL regardless of the capacity or maximum true vapor pressure of the VOL stored.

326 IAC 8-9-2 Exemptions

This section of the rule lists vessels that are exempt. After the rule was initially adopted by the state, EPA promulgated National Emission Standards for Storage Vessels (tanks)—Control Level 2, at 40 CFR subpart WW, 40 CFR 63.1060-63.1067. IDEM subsequently added an exemption for sources complying with the control requirements in 40 CFR 63.1063, which contains floating roof requirements for storage vessels subject to subpart WW. These requirements are as stringent as RACT; therefore, this revision is approvable.

326 IAC 8-9-3 Definitions

IDEM revised the definition of “maximum true vapor pressure” to eliminate a description of how the maximum true vapor pressure of a VOL is determined. Previously, sections 8-9-3 and 8-9-6 of the rule contained conflicting provisions with respect to the methods of calculating maximum true vapor pressure. Section 8-9-6 has been revised to contain the proper procedures for determining the maximum true vapor pressure. Therefore, it is acceptable to remove the procedure from section 8-9-3.

IDEM added the following definition: “ `Seal gap' means the gap areas and maximum gap widths between the: (A) primary seal and the wall of the vessel; and (B) secondary seal and the wall of the vessel.” The definition is acceptable.

326 IAC 8-9-4 Standards

This section has been revised to clarify that equivalent control systems must be approved by IDEM and EPA. Indiana also clarified that automatic bleeder vents and rim vents must be equipped with a gasket.

326 IAC 8-9-5 Testing and Procedures

This section sets forth an inspection process for each affected tank. Previously, the rule required tanks to be emptied, degassed, inspected and then refilled at specific time intervals. IDEM revised the rule to allow alternative inspection methods so that tanks can be inspected while still in use, rather than emptying for the purpose of inspection. If the tank has not been emptied and degassed within the required inspection period, sources are required to inspect the vessel while in service in accordance with EPA's subpart WW requirements at 40 CFR 63.1063(d)(1)(i) through 40 CFR 63.1063(d)(1)(v). In addition, sources are required to perform an internal out-of-service inspection in accordance with EPA's Standards of Performance for Volatile Organic Liquid Storage Vessels (including Petroleum Liquid Storage Vessels) for Which Construction, Reconstruction, or Modification Commenced After July 23, 1984, codified at 40 CFR 60.113b(a)(4), each time the vessel is emptied and degassed. This revision is approvable because requiring sources to empty and degas storage tanks for the sole purpose of inspection results in greater VOC emissions than inspecting the tanks while in service.

326 IAC 8-9-6 Recordkeeping and Reporting Requirements

Paragraphs (i) and (j) of this section set forth specific methods for determining the maximum true vapor pressure of VOLs. IDEM revised these sections to include updated references to the appropriate test methods and to clarify that any equivalent method for determining maximum true vapor pressure must be approved by both IDEM and EPA.

In revising these paragraphs, Indiana inadvertently retained the phrase “For other liquids,” at the beginning of 326 IAC 8-9-6(i)(3), which refers to former section 326 IAC 8-9-6(i)(2) which IDEM has deleted from its rule. In a September 28, 2018 email, IDEM clarified that it will disregard this phrase when interpreting and/or implementing 326 IAC 8-9-6(i). In fact, given the state's deletion of 326 IAC 8-9-6(i)(2), this phrase no longer has any meaning.

II. What action is EPA proposing?

EPA is proposing to approve revisions to Indiana's SIP pursuant to section 110 and part D of the CAA because Indiana's August 20, 2018 submission of rule 326 IAC 8-9, as supplemented on September 28, 2018, is consistent with the requirements of the CAA.

III. Incorporation by Reference

In this rule, EPA is proposing to include in a final EPA rule regulatory text that includes incorporation by reference. In accordance with requirements of 1 CFR 51.5, EPA is proposing to incorporate by reference Indiana rule 326 IAC 8-9 Volatile Organic Liquid Storage Vessels, effective July 16, 2018. EPA has made, and will continue to make, these documents generally available through www.regulations.gov and at the EPA Region 5 Office (please contact the person identified in the FOR FURTHER INFORMATION CONTACT section of this preamble for more information).

IV. Statutory and Executive Order Reviews

Under the CAA the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Reporting and recordkeeping requirements, Volatile organic compounds.

Dated: February 21, 2019.
Cheryl L Newton,
Acting Regional Administrator, Region 5.

[FR Doc. 2019-04161 Filed 3-7-19; 8:45 am]

BILLING CODE 6560-50-P